DEPARTMENT OF THE INTERIOR

Bureau of Land Management

[LLWYD03000L131100000.DM0000]

Notice of Availability of the Draft Environmental Impact Statement for the Continental Divide-Creston Natural Gas Development Project, Wyoming

AGENCY: Bureau of Land Management, Interior.

ACTION: Notice of availability.

SUMMARY: In accordance with the National Environmental Policy Act of 1969 (NEPA), as amended, the Bureau of Land Management (BLM) has prepared a Draft Environmental Impact Statement (EIS) for the proposed Continental Divide-Creston Natural Gas Development Project, and by this notice is announcing the opening of the comment period.

DATES: To ensure that comments will be considered, the BLM must receive written comments on the Continental Divide-Creston Natural Gas Development Project Draft EIS within 45 days following the date the Environmental Protection Agency publishes its Notice of Availability in the Federal Register. The BLM will announce future meetings or hearings and any other public involvement activities at least 15 days in advance through public notices, media releases, and/or mailings.

ADDRESSES: Comments related to the Continental Divide-Creston Natural Gas Development Project may be submitted by any of the following methods:

• Email: Continental_Divide_Creston_WYMail@blm.gov. Please reference “CD-C Project” in the subject line.

• Fax: 307-328-4224.

• Mail: Bureau of Land Management, Continental Divide-Creston Natural Gas Development Project Draft EIS, Attention: Dave Simons, Project Manager, P.O. Box 2407, 1300 N. Third Street, Rawlins, Wyoming 82301.

Copies of the Continental Divide-Creston Natural Gas Development Project Draft EIS are available in the BLM Rawlins Field Office, at the address indicated above, the BLM High Desert District Office, 280 Highway 191 North, Rock Springs, Wyoming 82901; the BLM Wyoming State Office, 5353 Yellowstone Road, Cheyenne, Wyoming 82009; and the Carbon County Public Library, 215 West Buffalo Street, #117, Rawlins, Wyoming 82301; and at the following Web site: http://www.blm.gov/wy/st/en/info/NEPA/documents/rfo/cd_creston.html.

FOR FURTHER INFORMATION CONTACT: Dave Simons, Project Manager, at the BLM Rawlins Field Office, telephone: 307-328-4200; address: 1300 N. Third Street, P.O. Box 2407, Rawlins, Wyoming 82301, email: Continental_Divide_Creston_WYMail@blm.gov. Persons who use a telecommunications device for the deaf (TDD) may call the Federal Information Relay Service (FIRS) at 1-800-877-8339 to contact the above individual during normal business hours. The FIRS is available 24 hours a day, seven days a week, to leave a message or question with the above named individual. You will receive a reply during normal business hours.

SUPPLEMENTARY INFORMATION: The applicant is BP America Production Company (BP), representing itself and more than 20 other companies. BP has filed a plan of operations pursuant to 43 CFR subpart 3809 to expand development of natural gas resources within the existing Continental Divide/Wamsutter II and Creston/Blue Gap natural gas fields. The BLM has named the project the Continental Divide-Creston (CD-C) Natural Gas Development Project. The project proposal is to drill and develop 8,950 additional natural gas wells, including 100 to 500 coal bed natural gas wells, using a combination of both vertical and directional drilling techniques, during the next 15 years with a 30-40 year project life. Planned facilities would include well pads, gas and water collection pipelines, compressor stations, water disposal systems, an access road network and an electrical distribution system. All surface facilities would be removed when the project is completed and the land re-contoured to near predisturbance condition and re-vegetated. More than 4,000 wells have been drilled in the project area, which has been undergoing natural gas development since the 1950s.

Existing surface disturbance in the project area as of September 2012, is roughly 49,218 acres, including nearly 8,500 acres of long-term disturbance. Under the proposed plan, the BLM would be approving an additional 47,200 acres of surface disturbance. The combined total surface disturbance would represent approximately 10 percent of the project area.

The project is located in the following area:

Sixth Principal Meridian

T. 14 N., R. 91 W.,

Secs. 6, 7, secs. 17 to 20, inclusive, and secs. 29 to 32, inclusive.

T. 18 N., R. 91 W.,

Secs. 3 to 10, inclusive, secs. 15 to 21, inclusive, and secs. 28 to 32, inclusive.

T. 19 N., R. 91 W.,

Secs. 1 to 23, inclusive, and secs. 26 to 34, inclusive.

T. 20 N., R. 91 W.,

Secs. 6, 7, 18, 19, 30, and 31.

T. 21 N., R. 91 W.,

Secs. 4 to 9, inclusive, secs. 16 to 21, inclusive, and secs. 28 to 33, inclusive.

T. 22 N., R. 91 W.,

Secs. 4 to 9, inclusive, secs. 16 to 21, inclusive, and secs. 28 to 33, inclusive.

T. 23 N., R. 91 W.,

Secs 4 to 9, inclusive, secs. 16 to 21, inclusive, and secs. 28 to 33, inclusive.

T. 14 N., R. 92 W.

T. 15 N., R. 92 W.,

Secs. 3 to 10, inclusive, secs. 14 to 23, inclusive, and secs. 25 to 36, inclusive.

T. 16 N., R. 92 W.,

Secs. 4 to 8, inclusive, secs. 18, 19, and secs. 29 to 33, inclusive.

T. 17 N., R. 92 W.,

Secs. 1 to 23, inclusive, and secs. 27 to 34, inclusive.

Tps. 18 to 23 N., R. 92 W.

T. 14 N., R. 93 W.,

Secs. 1, 2, secs. 11 to 14, inclusive, secs. 23 to 26, inclusive, secs. 35 and 36.

T. 15 N., R. 93 W.,

Secs. 1, 2, 3, secs. 10 to 15, inclusive, secs. 22 to 27, inclusive, secs. 34, 35, and 36.

Tps. 16 to 23 N., R. 93 W.

T. 16 N., R. 94 W.,

Secs. 1 to 14, inclusive, secs. 23 to 26, inclusive, secs. 35 and 36.

Tps. 17 to 23 N., R. 94 W.

T. 16 N., R. 95 W.,

Secs. 1, 2, and 3.

Sec. 4, E½.

Secs. 10, 11, and 12.

T. 17 N., R. 95 W.,

Secs. 1 to 15, inclusive, secs. 22 to 27, inclusive, secs. 34, 35, and 36.

Tps. 18 to 24 N., R. 95 W.

Tps. 18 to 24 N., R. 96 W.

T. 19 N., R. 97 W.,

Secs. 1 to 4, inclusive, and secs. 9 to 16, inclusive; those portions of secs. 17, 19 and 20 lying south of the right-of-way granted to the Union Pacific Railroad Company by the United States, serial number WYE-05871;

Secs. 21 to 36, inclusive.

T. 20 N., R. 97 W.,

Secs. 1 to 4, inclusive, secs. 9 to 16, inclusive, secs. 21 to 28, inclusive, and secs. 33 to 36, inclusive.

T. 22 N., R. 97 W.,

Secs. 1, 2, 3, and secs. 10 to 15, inclusive.

T. 23 N., R. 97 W.,

Secs. 1 to 4, inclusive, secs. 9 to 16, inclusive, secs. 21 to 28, inclusive, and secs. 33 to 36, inclusive.

T. 24 N., R. 97 W.,

Sec. 8, SE¼;

Sec. 9, S½;

Sec. 10, S½;

Sec. 11, S½;

Sec. 12, S½;

Secs. 13 to 16, inclusive;

Sec. 17, E½;

Sec. 20, E½;

Secs. 21 to 28, inclusive;

Sec. 29, E½;

Secs. 33 to 36, inclusive.

T. 19 N., R. 98 W.,

Those portions of secs. 23 and 24 lying south of the right-of-way granted to the Union Pacific Railroad Company by the United States, serial number WYE-05871;

Sec. 25;

Those portions of secs. 26 to 31, inclusive, lying south of the right-of-way granted to the Union Pacific Railroad Company by the United States, serial number WYE-05871;

Secs. 32 to 36, inclusive.

The CD-C project area, including both public and nonpublic lands, aggregate approximately 1.1 million acres (1,672 square miles) in Carbon and Sweetwater Counties, Wyoming.

The eastern boundary of the CD-C project area is about 25 miles west of the city of Rawlins, Wyoming. The western boundary is roughly 50 miles east of the city of Rock Springs, Wyoming. Interstate 80 bisects the project area. The land surface and mineral estate in the area are administered by the BLM, the State of Wyoming, and private owners. The BLM manages approximately 626,932 surface acres (58.6 percent), the State of Wyoming owns approximately 48,684 acres (4.5 percent), and private landowners own approximately 394,470 acres (36.9 percent). The Rawlins Field Office (RFO) manages the BLM surface lands and the Federal mineral estate in the project area.

Cooperating agencies in this EIS include the State of Wyoming, with active participation from many state agencies including the State Planning Office, Wyoming Game and Fish Department (WGFD), State Historic Preservation Office (SHPO), Wyoming Department of Environmental Quality (WDEQ), and Wyoming Department of Agriculture. Regional cooperating agencies include Sweetwater County, the Little Snake River Conservation District, and the Sweetwater County Conservation District.

The Notice of Intent to prepare the EIS was published in the Federal Register twice, on September 8, 2005 (70 FR 53381), and again on March 3, 2006 (71 FR 10989). Two public scoping meetings were held in Rawlins, Wyoming, on October 13, 2005, and on April 6, 2006. Fifty comment letters, faxes, and emails were received during the extended scoping period.

Key issues identified during scoping include:

• Air quality: Potential project and cumulative impacts on air quality, including air quality-related values (AQRV).

• Cultural resources: The impact on the historic trails and transportation corridors in the project area.

• Hydrology: Potential degradation of surface and or ground water quality by project construction and drilling activities.

• Land ownership: The majority of the project area is in the “checkerboard” pattern of mixed public and private land ownership, complicating landscape scale impact reduction through mitigation on public lands where adjacent sections are non-public lands not subject to BLM regulations and requirements.

• Non-native, invasive plant species: The effect of current and projected infestations of non-native, invasive species.

• Rangeland management: Loss of livestock forage and the impact of project-associated hazardous conditions to area livestock operations.

• Special-status species: The impact from project activities upon threatened and endangered and sensitive wildlife species.

• Socioeconomics: The impact of the project on traditional socioeconomic indicators.

• Surface disturbance/reclamation: The extent of existing and proposed surface disturbance and its effects on all resources in the project area; and

• Wildlife habitat: The project's potential to further fragment wildlife habitat and further diminish the value of that habitat for many species.

In response to these issues, the BLM has developed five alternatives addressing the direct, indirect, and cumulative impacts of the Proposed Action which are analyzed in the Draft EIS:

• Alternative A, 100-Percent Vertical Drilling—This alternative assumes that all natural gas wells would be drilled from single-well pads, and that no directional drilling would occur;

• Alternative B, Enhanced Resource Protection—This alternative identifies those resources that may be most at risk from natural gas development, defines areas within the CD-C project area where those resource risks are likely to occur, and describes the enhanced protection and mitigations that could diminish those risks;

• Alternative C, Surface Disturbance Cap, Core and Non-Core Areas—This alternative places a cap on unreclaimed surface disturbance caused by natural gas development, a 60-acre cap in areas that have seen the greatest natural gas development to date and a 30-acre cap in the rest of the project area. The cap is acres per 640 acre section;

• Alternative D, Directional Drilling—This alternative requires that all future natural gas wells on Federal mineral estate be drilled from multi-well pads, one new multi-well pad per section; and

• Alternative E, No Action—NEPA regulations require that the EIS alternatives analysis “include the alternative of no action” (40 CFR 1502.14(d)). For this analysis, no action means that the development activities proposed by the CD-C operators would not be approved or authorized as proposed. Lease rights on Federal lands or mineral estate granted by the BLM would remain in effect and other, additional or supplemental proposals to develop leased resources, such as natural gas, could be received and would be considered by the BLM as appropriate.

Please note that public comments and information submitted including names, street addresses, and email addresses of persons who submit comments will be available for public review and disclosure at the above address during regular business hours (7:45 a.m. to 4:30 p.m.), Monday through Friday, except holidays.

Before including your address, phone number, email address, or other personal identifying information in your comment, you should be aware that your entire comment—including your personal identifying information—may be made publicly available at any time. While you may ask the BLM in your comment to withhold your personal identifying information from public review, we cannot guarantee that we will be able to do so.

Authority: 40 CFR 1506.6, 40 CFR 1506.10.

Donald A. Simpson,
State Director.

[FR Doc. 2012-29614 Filed 12-6-12; 8:45 am]

BILLING CODE 4310-22-P